DEPARTMENT OF THE TREASURY

Alcohol and Tobacco Tax and Trade Bureau

27 CFR Part 9

[Docket No. TTB-2016-0012; Notice No. 166]

RIN 1513-AC33

Proposed Establishment of the Dahlonega Plateau Viticultural Area

AGENCY: Alcohol and Tobacco Tax and Trade Bureau, Treasury.

ACTION: Notice of proposed rulemaking.

SUMMARY: The Alcohol and Tobacco Tax and Trade Bureau (TTB) proposes to establish the 133-square mile “Dahlonega Plateau” viticultural area in portions of Lumpkin and White Counties, Georgia. The proposed viticultural area does not lie within or contain any established viticultural area. TTB designates viticultural areas to allow vintners to better describe the origin of their wines and to allow consumers to better identify wines they may purchase. TTB invites comments on this proposed addition to its regulations.

DATES: Comments must be received by January 31, 2017.

ADDRESSES: Please send your comments on this notice to one of the following addresses:

• Internet: http://www.regulations.gov (via the online comment form for this notice as posted within Docket No. TTB-2016-0012 at “Regulations.gov,” the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 400, Washington, DC 20005.

See the Public Participation section of this notice for specific instructions and requirements for submitting comments, and for information on how to request a public hearing or view or obtain copies of the petition and supporting materials.

FOR FURTHER INFORMATION CONTACT: Karen A. Thornton, Regulations and Rulings Division, Alcohol and Tobacco Tax and Trade Bureau, 1310 G St. NW., Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01, dated December 10, 2013, (superseding Treasury Order 120-01, dated January 24, 2003), to the TTB Administrator to perform the functions and duties in the administration and enforcement of these provisions.

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA. Section 9.12 of the TTB regulations (27 CFR 9.12) prescribes the standards for petitions for the establishment or modification of AVAs. Petitions to establish an AVA must include the following:

• Evidence that the area within the proposed AVA boundary is nationally or locally known by the viticultural area name specified in the petition;

• An explanation of the basis for defining the boundary of the proposed AVA;

• A narrative description of the features of the proposed AVA affecting viticulture, such as climate, geology, soils, physical features, and elevation, that make the proposed AVA distinctive and distinguish it from adjacent areas outside the proposed boundary;

• The appropriate United States Geological Survey (USGS) map(s) showing the location of the proposed AVA, with the boundary of the proposed AVA clearly drawn thereon; and

• A detailed narrative description of the proposed AVA boundary based on USGS map markings.

Dahlonega Plateau Petition

TTB received a petition from Amy Booker, President of the Dahlonega-Lumpkin Chamber & Visitors Bureau, on behalf of local vineyard and winery owners, proposing to establish the “Dahlonega Plateau” AVA. The proposed AVA is located in portions of Lumpkin and White Counties, in Georgia. The proposed AVA encompasses approximately 133 square miles. Seven wineries and 8 commercial vineyards covering a total of approximately 110 acres are distributed throughout the proposed AVA. The petition notes that there are an additional 12 acres of vineyards planned for planting within the proposed AVA in the next few years.

According to the petition, the distinguishing features of the proposed Dahlonega Plateau AVA are its topography and climate. Unless otherwise noted, all information and data pertaining to the proposed AVA contained in this document are from the petition for the proposed Dahlonega Plateau AVA and its supporting exhibits.

Name Evidence

The proposed Dahlonega Plateau AVA derives its name from a long, narrow, northeast-southwest trending plateau in the northern foothills of the Georgia Piedmont known as the Dahlonega Plateau. The plateau covers most of Lumpkin, Dawson, White, Pickens, and Cherokee Counties. However, the proposed AVA is limited to the northeastern portion of the plateau, in Lumpkin and White Counties, due to a lack of viticulture in the southwestern region of the plateau, as well topographical and climatic differences.

The town of Dahlonega, which is located within the proposed AVA, derived its name from the Cherokee word “dalonige,” which means “yellow” or “golden,” due to the presence of gold in the region. The town was named in 1837, and the geological feature derives its name, in part, from the name of the town. The petition states that the first written reference to the plateau was in a 1911 scientific paper by geologist L.C. Glenn, who noted, “In the Chestatee basin about [the town of] Dahlonega the upland is an old, well-dissected plateau * * *.” ¹ The petition lists several other professional papers and books, both historical and contemporary, which describe a geological feature known as the “Dahlonega Plateau.” These sources are listed in the “References” section of the petition. Additionally, an excerpt from a contemporary travel guide describes the region of the proposed AVA as follows: “In the northeastern section of the Piedmont lies the Dahlonega Plateau, a deeply eroded region of steep, forested hills and narrow valleys * * *.” ² An online travel site states, “A broad, high plain shadowed by some of Georgia's highest mountains, the Dahlonega Plateau offers near perfect growing conditions [for wine grapes].” ³ Finally, the petition includes a 1976 map of the physiographic regions of Georgia, from the Georgia Department of Natural Resources, which includes a region titled “Dahlonega Uplands/Dahlonega Plateau.”

¹ Glenn, L.C., 1911, Denudation and Erosion in the Southern Appalachian Region and in the Monongahela Basin: U.S. Geological Survey, Prof. Paper 72.

² Howard, Blair. Georgia Travel Adventures. West Palm Beach, FL: Hunter Publishing, Inc., 2011.

³ http://www.offbeattravel.com/dahlonega-georgia.html.

Boundary Evidence

The northern and northeastern boundaries of the proposed Dahlonega Plateau AVA follow the 1,800-foot elevation contour and separate the proposed AVA from the higher, steeper slopes of the Blue Ridge Mountains. The proposed eastern and southeastern boundaries follow a series of straight lines drawn between roads and elevation points marked on the USGS maps which separate the proposed AVA from the physiographic features known as the Hightower Ridges and the Central Uplands. The proposed southwestern and western boundaries also follow a series of straight lines drawn between roads and elevation points on the USGS maps in order to separate the proposed AVA from the southwestern portion of the plateau, which has a different topography and climate.

Distinguishing Features

The distinguishing features of the proposed Dahlonega Plateau AVA are its topography and climate.

Topography

The topography of the proposed AVA is characterized by broad, rounded hilltops separated by wide valleys. According to the petition, the distinctive topography is due to the underlying geology of the proposed AVA, which is comprised of layers of rocks that weather uniformly and are moderately resistant to erosion. Over time, wind and water have gradually worn down the underlying rocks and formed a gently rolling landscape with moderate elevations that are lower than the elevations to the north and east and higher than the elevations to the south and west.

By contrast, the geology of Blue Ridge Mountains to the north and northeast of the proposed AVA is comprised of rocks that are structurally higher and more erosion-resistant than those of the proposed AVA. Because the rocks do not erode as easily, the Blue Ridge Mountains generally have higher elevations than are found within the proposed Dahlonega Plateau AVA. Additionally, the peaks within the Blue Ridge Mountains are more rugged and the slopes are steeper because the surfaces have not been as softened or rounded by erosion as the hilltops of the proposed AVA.

To the immediate east and southeast of the proposed AVA are the Hightower Ridges. The geology of these ridges is characterized by strongly-layered, alternating zones of weak rocks and more resistant rocks. These alternating zones have a strong northeast-southwest orientation. Because these layers erode at different rates, the resulting topography has a “washboard” appearance, with steep, parallel ridges (formed from the more resistant layers) separated by narrow valleys (formed from the less resistant layers). Compared to the proposed AVA, the valleys generally have lower minimum elevations and the ridges generally have higher maximum elevations. Farther south and running parallel to the Hightower Ridges is the Central Uplands region. The topography of this region is similar to that of the proposed AVA, with broad valleys and rolling hills, but with a wider range of elevations.

To the west and southwest of the proposed AVA, in the southwestern portion of the geological feature known as the Dahlonega Plateau, the underlying geology is comprised of rocks that are less erosion-resistant and structurally lower than the rocks in the northeastern portion of the plateau, which are within the proposed AVA. Because the rocks are more susceptible to erosion, the topography of the southwestern portion of the plateau is generally flatter and lower than within the proposed AVA.

The following table shows the minimum, maximum, and mean elevations for the proposed Dahlonega Plateau AVA and the surrounding areas, which were described in the petition.⁴

⁴ Figure 7 of the petition shows the location of the comparison regions in relation to the proposed AVA.

Table 1—Elevations ⁵
Region (direction) | Elevations (in feet): Minimum | Elevations (in feet): Maximum | Elevations (in feet): Mean
Proposed AVA | 1,141.7 | 2,345.8 | 1,554.2
Blue Ridge Mountains (north) | 1,651.7 | 4,460.2 | 2,455.4
Blue Ridge Mountains (northeast) | 1,441.1 | 4,418.8 | 2,449.6
Hightower Ridges (east) | 1,317.1 | 2,386.4 | 1,565.2
Central Uplands (east) | 1,088.2 | 3,164.5 | 1,446.5
Hightower Ridges (southeast) | 1,053.3 | 2,180.8 | 1,315.0
Central Uplands (southeast) | 1,069.5 | 2,584.4 | 1,256.8
Southwestern Dahlonega Plateau (west) | 858.6 | 2,033.2 | 1,386.3

The topography of the proposed Dahlonega Plateau AVA and the surrounding regions has an effect on viticulture. Because the hills within the proposed AVA are gently sloped and have moderate elevations, the floors of the intervening valleys are not highly shadowed and receive adequate sunlight for vineyards. The hillsides within the proposed AVA are also suitable for vineyards because they are not so steep as to make mechanical cultivation difficult or dangerous. The petition also states that the proposed AVA's location between higher and lower elevations allows cool nighttime air draining from the higher elevations of the Blue Ridge Mountains to flow through the proposed AVA and into the lower elevations to the south and west. As a result, vineyards within the proposed AVA benefit from cool nighttime temperatures but do not have a high risk of frost because the cool air does not settle.

⁵ This information is also presented as a map in Figure 8 of the petition.

By contrast, the petition states that the topography of the regions surrounding the proposed AVA is less suitable for vineyards. Within the Blue Ridge Mountains and Hightower Ridges to the north, east, and southeast of the proposed AVA, the narrow valleys are often shadowed by the surrounding steep, high slopes, meaning less light would reach any vineyard planted on the valley floors. The steepness of the slopes would also make mechanical cultivation of any vineyard planted on the sides of the mountains impractical. In the lower elevations of the regions to the south and west of the proposed AVA, cool air draining from higher elevations eventually settles and pools and would increase the risk of frost damage in any vineyard planted there.

Climate

Topography, and more specifically elevation, also affects the climate of the proposed Dahlonega Plateau AVA and the surrounding regions. The petition included information on the length of the growing season, growing degree day accumulations, and precipitation amounts within the proposed AVA and the surrounding regions. According to the petition, the proposed AVA's location between higher elevations to the north, east, and southeast and lower elevations to the southwest and west create climatic conditions that are ideal for growing grape varietals such as Cabernet Franc, Cabernet Sauvignon, Chardonnay, and Merlot.

Length of Growing Season: The petition states that the length of the growing season within the proposed Dahlonega Plateau AVA provides ample time for most Vitis vinifera (V. vinifera) varietals of grapes to ripen. The petition included the average minimum, maximum, and mean length of the growing season within the proposed AVA and the surrounding areas. Because the growing season length within a given region may fluctuate based on the range of elevations within that region, the petition also listed the percentage of terrain within each region that is within a given range of growing season length. The growing season data is shown in the following tables.

Table 2—Length of Growing Season (Days) 1981-2010 ⁶
Region (direction) | Minimum | Maximum | Mean
Proposed AVA | 167 | 209 | 195
Blue Ridge Mountains (north) | 94 | 192 | 164
Blue Ridge Mountains (northeast) | 95 | 199 | 164
Hightower Ridges (east) | 166 | 203 | 195
Central Uplands (east) | 139 | 211 | 199
Hightower Ridges (southeast) | 173 | 212 | 203
Central Uplands (southeast) | 159 | 211 | 205
Southwestern Dahlonega Plateau (west) | 178 | 219 | 201

Table 3—Percentage of Terrain Within Given Range of Growing Season Length ⁷
Region (direction) | Growing season length: <160 days | Growing season length: 160-170 days | Growing season length: 170-180 days | Growing season length: 180-190 days | Growing season length: 190-200 days | Growing season length: >200 days
Proposed AVA |  | 0.02 | 0.33 | 19.40 | 60.82 | 19.43
Blue Ridge Mountains (north) | 39.86 | 21.45 | 23.96 | 14.69 | 0.04 |
Blue Ridge Mountains (northeast) | 44.04 | 16.90 | 14.32 | 16.39 | 8.35 |
Hightower Ridges (east) |  | 0.05 | 1.00 | 11.79 | 76.50 | 10.66
Central Uplands (east) | 0.25 | 0.40 | 1.07 | 5.02 | 44.62 | 48.63
Hightower Ridges (southeast) |  |  | 0.04 | 0.45 | 22.91 | 76.60
Central Uplands (southeast) |  | 0.07 | 0.49 | 1.40 | 9.84 | 88.19
Southwestern Dahlonega Plateau (west) |  |  | 0.01 | 6.80 | 42.74 | 50.45

The data in Table 2 shows that the mean growing season length is shorter in regions with high elevations and longer in regions with lower elevations. The proposed Dahlonega Plateau AVA, with its moderate elevations, has a mean growing season length that is longer than the regions to the north and northeast, which have higher elevations, and is shorter than the regions to the south and west, which have lower elevations.

⁶ Growing season length calculated using 1981-2010 climate normals. Locations of weather stations are shown in Figure 15 of the petition. “Growing season” is defined as the number of days between the last 28 degree F day of the spring and the first occurrence of that temperature in the fall. Plant tissue freezes at 28 degrees F. This information is also presented as a map in Figure 17 of the petition.

⁷ This information is also presented as a map in Figure 17 of the petition.

Table 3 shows that over 60 percent of the terrain within the proposed AVA has a growing season length of 190 to 200 days, which is a higher percentage of terrain with that length of a growing season than any of the surrounding regions except the Hightower Ridges region to the east. The petition states that guidelines for selecting vineyard sites based on growing season lengths, published by the College of Agriculture and Life Sciences at Cornell University in conjunction with the Institute for the Application of Geospatial Technology,⁸ do not recommend planting vineyards in regions with growing seasons shorter than 160 days because most grape varietals will not have time to ripen fully. Sites with growing seasons of between 180 and 190 days are described as “good,” while sites with growing seasons between 190 and 200 days are “not limited by growing season.” Sites with growing seasons of over 200 days are considered suitable for growing varietals that need a long time to mature. Based on this guidance, vineyard owners can plant many different grape varietals in the majority of the proposed AVA without the fear of having too short of a growing season for the grapes to ripen.

⁸ http://arcserver2.iagt.org/vll/downloads/BasicSiteEvaluation-2015.pdf.

Growing Degree Days: The petition notes that although growing season length is important because it reflects the number of frost-free days, the temperatures that are reached during that frost-free period are just as important to viticulture. The petition states that grape vines do not grow and fruit does not mature when temperatures are below 50 degrees Fahrenheit (F). Therefore, a region that has a 180-day frost-free growing season would still be unsuitable for viticulture if temperatures seldom or never rise above 50 degrees F.

Growing degree day (GDD) accumulations are a way of describing the frequency that temperatures within a region exceed 50 degrees F during the growing season.⁹ The Winkler zone scale ranges from the very cool Zone I, for regions accumulating 2,500 or fewer GDDs in a growing season, to the very warm Zone V, for regions accumulating over 4,000 GDDs. The petition included the information in the following table which shows the percentage of the proposed AVA and the surrounding areas that can be categorized into each of the five Winkler zones.¹⁰

⁹ In the Winkler climate classification system, annual heat accumulation during the growing season, measured in annual GDDs, defines climatic regions. One GDD accumulates for each degree Fahrenheit that a day's mean temperature is above 50 degrees F, the minimum temperature required for grapevine growth. See Albert J. Winkler, General Viticulture (Berkeley: University of California Press, 1974), pages 61-64.

¹⁰ The growing degree day data for the proposed AVA and the surrounding regions was calculated using the PRISM Climate Group's 1981-2010 climate normals. The Parameter Elevation Regression on Independent Slopes Model (PRISM) climate data mapping system combined climate normals gathered from weather stations, along with other factors such as elevation, longitude, slope angles, and solar aspect to estimate the general climate patterns for the proposed AVA and the surrounding regions. Climate normals are only calculated every 10 years, using 30 years of data, and at the time the petition was submitted, the most recent climate normals available were from the period of 1981-2010. (PRISM Climate Group, Oregon State University, http://prism.oregonstate.edu, created 4 February 2004).

Table 4—Percentage of Terrain Within Each Winkler Zone ¹¹
Region (direction) | Zone I | Zone II | Zone III | Zone IV | Zone V
| Cooler to warmer
Proposed AVA |  |  | 0.16 | 98.84 |
Blue Ridge Mountains (north) |  | 0.76 | 90.91 | 8.33 |
Blue Ridge Mountains (northeast) | 0.20 | 5.83 | 83.94 | 10.03 |
Hightower Ridges (east) |  |  | 9.02 | 90.98 |
Central Uplands (east) |  |  | 2.35 | 97.65 |
South:
Hightower Ridges (southeast) |  |  | 0.05 | 90.12 | 9.83
Central Uplands (southeast) |  |  | 0.50 | 41.46 | 58.04
Southwestern Dahlonega Plateau (west) |  |  |  | 68.39 | 31.61

The data in the table shows that all of the terrain within the proposed Dahlonega Plateau AVA is classified in the intermediate ranges of the Winkler scale (Zones III and IV). The proposed AVA has a higher percentage of terrain within Zone IV than any of the surrounding regions and lacks any terrain in the very cool Zone I, the cool Zone II, or the very warm Zone V. According to the petition, regions classified as Zones III or IV, such as the proposed AVA, are suitable for growing a diverse range of late-ripening varietals of V. vinifera, including Cabernet Sauvignon and Merlot. Regions that are categorized as Zones I and II have temperatures that are too low to ripen the varietals grown within the proposed AVA and are more suitable for growing cold-hardy French-American hybrid varietals and early ripening V. vinifera varietals such as Riesling and Pinot Noir. Finally, the petition states that regions categorized as the very warm Zone V are best suited for growing long-season varietals of wine grapes that tolerate the high heat, such as Muscadine, and for growing table grapes.

¹¹ This information is also presented as a map in Figure 19 of the petition.

Precipitation: According to the petition, the rising elevations of the proposed AVA and the regions to the north and east cause the moisture-laden winds travelling inland from the Gulf of Mexico and Atlantic Ocean to drop their rain. Areas with higher elevations typically receive more annual rainfall than regions with lower elevations. The petition included information on the mean annual, growing season, and winter precipitation amounts for the proposed Dahlonega Plateau AVA and the surrounding regions. The following table is derived from information included in the petition. All data was gathered from 1981-2010 climate normals.

¹² This information is also presented as a map in Figure 20 of the petition.

Table 5—Mean Precipitation Amounts
[In inches] ¹²
Region (direction) | Annual: Minimum | Annual: Maximum | Annual: Mean | Growing season (April-October): Minimum | Growing season (April-October): Maximum | Growing season (April-October): Mean | Winter (December-February): Minimum | Winter (December-February): Maximum | Winter (December-February): Mean
Proposed AVA | 60.36 | 69.94 | 62.34 | 34.42 | 38.40 | 34.09 | 16.39 | 19.65 | 17.40
Blue Ridge Mountains (north) | 59.48 | 80.73 | 68.10 | 32.19 | 44.52 | 37.59 | 15.63 | 22.43 | 18.80
Blue Ridge Mountains (northeast) | 65.31 | 79.74 | 70.00 | 36.41 | 46.53 | 39.81 | 16.92 | 20.04 | 18.53
Hightower Ridges (east) | 61.86 | 68.96 | 64.97 | 34.07 | 38.86 | 36.29 | 17.10 | 18.30 | 17.52
Central Uplands (east) | 57.03 | 68.25 | 60.78 | 31.52 | 38.45 | 33.74 | 15.50 | 18.23 | 16.54
Hightower Ridges (southeast) | 56.81 | 62.66 | 59.59 | 31.06 | 34.61 | 32.46 | 15.70 | 17.35 | 16.65
Central Uplands (southeast) | 53.87 | 62.85 | 67.14 | 29.39 | 34.73 | 31.30 | 14.91 | 17.35 | 15.86
Southwestern Dahlonega Plateau (west) | 52.91 | 65.08 | 58.77 | 28.93 | 35.87 | 32.20 | 14.49 | 18.00 | 16.27

The data in the table shows that annual rainfall amounts within the proposed AVA are in the intermediate range. The regions to the north and east generally receive more rainfall annually than the proposed AVA, and the regions to the south and west generally receive less. The petition states that vineyard irrigation within the proposed AVA is seldom necessary because the average annual amount of rainfall within the proposed AVA is sufficient for the adequate hydration of grapevines.

Finally, the petition states that the amount of rainfall a region receives during the winter months has an effect on viticulture. Excessive precipitation during the winter months can delay bud break and/or pruning in vineyards, which can lead to a late harvest and a higher probability of fruit remaining on the vine when damaging fall frosts occur. Delayed bud break is less likely within the proposed AVA than in the higher elevations to the north and east because the proposed AVA has lower winter rainfall amounts. However, the possibility of delayed bud break within the proposed AVA is higher than within the lower elevations of the regions to the south and west, because those regions typically receive less winter precipitation.

Summary of Distinguishing Features

In summary, the evidence provided in the petition indicates that the viticulturally significant geographic features of the proposed Dahlonega Plateau AVA distinguish it from the surrounding regions in each direction. With respect to topography, the proposed AVA is characterized by broad, rounded hilltops, wide valleys, gentle slopes, and moderate elevations. By contrast, the regions to the north and northeast of the proposed AVA, within the Blue Ridge Mountains, feature high elevations and steep, rugged slopes. To the east and southeast of the proposed AVA, within the Hightower Ridges, the topography has a “washboard” appearance, with high, steep ridges separated by narrow valleys. To the west and southwest of the proposed AVA, the topography is generally flatter and elevations are lower.

Temperatures within the proposed Dahlonega Plateau are suitable for growing most V. vinifera varietals of grapes. The mean growing season length within the proposed AVA is longer than within the regions to the north and northeast and shorter than within the regions to the south and west. With respect to GDDs, the proposed AVA is classified in the intermediate Winkler Zones III and IV, with the majority of the proposed AVA classified as Zone IV. The regions to the north and northeast of the proposed AVA are primarily classified as Zone III and also contain areas classified as Zones I and II. The regions to the southeast and west have areas that are classified as the very warm Zone V.

Finally, precipitation amounts within the proposed AVA provide sufficient hydration for grapevines, making irrigation seldom necessary. The regions to the north and east of the proposed AVA generally receive more rainfall, and regions to the south and west generally receive less.

TTB Determination

TTB concludes that the petition to establish the Dahlonega Plateau viticultural area merits consideration and public comment, as invited in this notice of proposed rulemaking.

Boundary Description

See the narrative description of the boundary of the petitioned-for viticultural area in the proposed regulatory text published at the end of this proposed rule.

Maps

The petitioner provided the required maps, and they are listed below in the proposed regulatory text.

Impact on Current Wine Labels

Part 4 of the TTB regulations prohibits any label reference on a wine that indicates or implies an origin other than the wine's true place of origin. For a wine to be labeled with an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See § 4.39(i)(2) of the TTB regulations (27 CFR 4.39(i)(2)) for details.

If TTB establishes this proposed viticultural area, its name, “Dahlonega Plateau,” will be recognized as a name of viticultural significance under § 4.39(i)(3) of the TTB regulations (27 CFR 4.39(i)(3)). The text of the proposed regulation clarifies this point. Consequently, wine bottlers using the name “Dahlonega Plateau” in a brand name, including a trademark, or in another label reference as to the origin of the wine, would have to ensure that the product is eligible to use the viticultural name as an appellation of origin if this proposed rule is adopted as a final rule. TTB is not proposing to designate the term “Dahlonega,” standing alone, as a term of viticultural significance if the AVA is established, in order to avoid potentially affecting a current label holder.

Public Participation

Comments Invited

TTB invites comments from interested members of the public on whether it should establish the proposed viticultural area. TTB is also interested in receiving comments on the sufficiency and accuracy of the name, boundary, soils, climate, and other required information submitted in support of the petition. Please provide any available specific information in support of your comments.

Because of the potential impact of the establishment of the proposed Dahlonega Plateau AVA on wine labels that include the term “Dahlonega Plateau” as discussed above under Impact on Current Wine Labels, TTB is particularly interested in comments regarding whether there will be a conflict between the proposed area name and currently used brand names. If a commenter believes that a conflict will arise, the comment should describe the nature of that conflict, including any anticipated negative economic impact that approval of the proposed viticultural area will have on an existing viticultural enterprise. TTB is also interested in receiving suggestions for ways to avoid conflicts, for example, by adopting a modified or different name for the viticultural area.

Submitting Comments

You may submit comments on this notice by using one of the following three methods:

• Federal e-Rulemaking Portal: You may send comments via the online comment form posted with this notice within Docket No. TTB-2016-0012 on “Regulations.gov,” the Federal e-rulemaking portal, at http://www.regulations.gov. A direct link to that docket is available under Notice No. 166 on the TTB Web site at https://www.ttb.gov/wine/wine-rulemaking.shtml. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW., Box 12, Washington, DC 20005.

• Hand Delivery/Courier: You may hand-carry your comments or have them hand-carried to the Alcohol and Tobacco Tax and Trade Bureau, 1310 G Street NW., Suite 400, Washington, DC 20005.

Please submit your comments by the closing date shown above in this notice. Your comments must reference Notice No. 166 and include your name and mailing address. Your comments also must be made in English, be legible, and be written in language acceptable for public disclosure. TTB does not acknowledge receipt of comments, and TTB considers all comments as originals.

In your comment, please clearly indicate if you are commenting on your own behalf or on behalf of an association, business, or other entity. If you are commenting on behalf of an entity, your comment must include the entity's name, as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this notice, selected supporting materials, and any online or mailed comments received about this proposal within Docket No. TTB-2016-0012 on the Federal e-rulemaking portal, Regulations.gov, at http://www.regulations.gov. A direct link to that docket is available on the TTB Web site at https://www.ttb.gov/wine/wine-rulemaking.shtml under Notice No. 166. You may also reach the relevant docket through the Regulations.gov search page at http://www.regulations.gov. For information on how to use Regulations.gov, click on the site's “Help” tab.

All posted comments will display the commenter's name, organization (if any), city, and State, and, in the case of mailed comments, all address information, including email addresses. TTB may omit voluminous attachments or material that the Bureau considers unsuitable for posting.

You may also view copies of this notice, all related petitions, maps and other supporting materials, and any electronic or mailed comments that TTB receives about this proposal by appointment at the TTB Information Resource Center, 1310 G Street NW., Washington, DC 20005. You may also obtain copies at 20 cents per 8.5- x 11-inch page. Please note that TTB is unable to provide copies of USGS maps or other similarly-sized documents that may be included as part of the AVA petition. Contact TTB's information specialist at the above address or by telephone at 202-453-2265 to schedule an appointment or to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this proposed rule.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.__ to read as follows:

§ 9.__ Dahlonega Plateau.

(a) Name. The name of the viticultural area described in this section is “Dahlonega Plateau”. For purposes of part 4 of this chapter, “Dahlonega Plateau” is a term of viticultural significance.

(b) Approved maps. The 9 United States Geological Survey (USGS) 1:24,000 scale topographic maps used to determine the boundary of the Dahlonega Plateau viticultural area are titled:

(1) Dawsonville, GA, 1997;

(2) Campbell Mountain, GA, 2014;

(3) Nimblewill, GA, 1997;

(4) Noontootla, GA, 1988;

(5) Suches, GA, 1988;

(6) Neels Gap, GA, 1988;

(7) Dahlonega, GA, 1951;

(8) Cowrock, GA, 1988; and

(9) Cleveland, GA, 1951; photorevised 1973; photoinspected 1981.

(c) Boundary. The Dahlonega Plateau viticultural area is located in Lumpkin and White Counties, Georgia. The boundary of the Dahlonega Plateau viticultural area is as described below:

(1) The beginning point is found on the Dawsonville map at the marked 1,412-foot elevation point at the intersection of an unnamed light-duty road known locally as Castleberry Bridge Road and an unimproved road known locally as McDuffie River Road.

(2) From the beginning point, proceed north-northeast in a straight line approximately 0.89 mile to the marked 1,453-foot elevation point; then

(3) Proceed northwest in a straight line approximately 1.94 miles, crossing onto the Campbell Mountain map, to the intersection of Arrendale Road and Windy Oaks Road; then

(4) Proceed northwest in a straight line approximately 0.77 mile to the intersection of the 1,400-foot elevation contour and Dennson Branch; then

(5) Proceed northwest in a straight line approximately 0.79 mile to the intersection of the 1,360-foot elevation contour and Mill Creek; then

(6) Proceed northwest in a straight line approximately 0.48 mile to the intersection of the 1,500-foot elevation contour and Sheep Wallow Road; then

(7) Proceed northwest in a straight line approximately 1.74 miles to the intersection of State Route 52 and the Chattahoochee National Forest boundary; then

(8) Proceed northwest in a straight line approximately 1.89 miles, crossing onto the Nimblewill map and then crossing over the marked 1,749-foot elevation point along an unnamed light-duty road known locally as Nimblewill Church Road, to the line's intersection with the 1,800-foot elevation contour; then

(9) Proceed generally east-northeast along the 1,800-foot elevation contour approximately 170.72 miles (straight-line distance between points is approximately 20.43 miles), crossing over the Noontootla, Suches, Neels Gap, and Dahlonega maps and onto the Cowrock map, to the intersection of the 1,800-foot elevation contour with Tom White Branch; then

(10) Proceed southeast along Tom White Branch approximately 0.73 mile to the 1,600-foot elevation contour; then

(11) Proceed southeast in a straight line approximately 1.10 miles to the intersection of Cathey Creek and the secondary highway marked Alt. 75; then

(12) Proceed southwest in a straight line approximately 3.77 miles, crossing onto the Cleveland map, to the intersection of two unnamed light-duty roads known locally as Dockery Road and Town Creek Road; then

(13) Proceed south in a straight line approximately 0.58 mile to the marked 1,774-foot elevation point; then

(14) Proceed southwest in a straight line approximately 0.60 mile to the 1,623-foot benchmark (BM); then

(15) Proceed southwest in a straight line approximately 2.73 miles, crossing onto the Dahlonega map, to the 1,562-foot benchmark; then

(16) Proceed southwest in a straight line approximately 3.46 miles to the marked 1,480-foot elevation point near the Mt. Sinai Church; then

(17) Proceed southwest in a straight line approximately 2.13 miles to the summit of Crown Mountain; then

(18) Proceed west in a straight line approximately 1.28 miles, crossing onto the Campbell Mountain map, to the intersection of the 1,160-foot elevation contour and Cane Creek; then

(19) Proceed southwest in a straight line approximately 1.61 miles to the intersection of the 1,300-foot elevation contour and Camp Creek; then

(20) Proceed southwest in a straight line approximately 2.02 miles, crossing onto the Dawsonville map, to the intersection of the 1,200-foot elevation contour with the Etowah River; then

(21) Proceed southwest in a straight line approximately 1.29 miles to the beginning point.

November 22, 2016.
John J. Manfreda,
Administrator.

[FR Doc. 2016-28839 Filed 12-1-16; 8:45 am]

BILLING CODE 4810-31-P